COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add products and services to the Procurement List that will be furnished by nonprofit agencies employing persons who are blind or have other severe disabilities, and deletes a service previously furnished by such agency.

Comments Must Be Received on or Before: 7/30/2017.

ADDRESSES: Committee for Purchase From People Who Are Blind or Severely Disabled, 401 S. Clark Street, Suite 715, Arlington, Virginia 22202-4149.

FOR FURTHER INFORMATION OR TO SUBMIT COMMENTS CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed.

Products

NSN(s)—Product Name(s):

9930-00-NIB-0105—Kit, Post Mortem Bag, Basic, Straight Zipper, 36″ × 90″

9930-00-NIB-0106—Kit, Post Mortem Bag, Basic, Curved Zipper, 36″ × 90″

9930-00-NIB-0107—Kit, Post Mortem Bag, Heavy Duty, 36″ × 90″

9930-00-NIB-0108—Kit, Post Mortem Bag, Heavy Duty, XL, 72″ × 90″

9930-00-NIB-0109—Kit, Disaster Bag with ID Tags, 34″ × 96″

Mandatory for: Broad Government Requirement

Mandatory Source(s) of Supply: BOSMA Enterprises, Indianapolis, IN

Contracting Activity: Defense Logistics Agency Troop Support

Distribution: B-List

Services

Service Type: Custodial Service

Mandatory for: Defense Intelligence Agency, Defense Intelligence Agency Headquarters, Building 6000, 200 MacDill Blvd., Joint Base Anacostia-Bolling, Washington, DC

Defense Intelligence Agency, Missile and Space Intelligence Center/EOE Complex, Bldgs. 4545 Fowler Rd. & 7533 Mathews Rd., Redstone Arsenal, AL

Mandatory Source(s) of Supply: CW Resources, Inc., New Britain, CT

Contracting Activity: Dept of Defense, Virginia Contracting Agency, DIAC CF02E

Service Type: Janitorial Service

Mandatory for: U.S. Census Bureau, National Processing Center, 1201 E 10th Street, Jeffersonville, IN

Mandatory Source(s) of Supply: Rauch, Inc., New Albany, IN

Contracting Activity: Dept of Commerce/Bureau of the Census

Service Type: Base Supply Center Service

Mandatory for: U.S. Air Force, Robins Air Force Base, 375 Perry Street, Suite A, Robins AFB, GA

Mandatory Source(s) of Supply: Alabama Industries for the Blind, Talladega, AL

Contracting Activity: Dept. of the Air Force, FA8501 AFSC PZIO

Deletion

The following service is proposed for deletion from the Procurement List:

Service

Service Type: Janitorial/Custodial Service

Mandatory for: U.S. Army Reserve Center: 10541 Calle Lee, Building 2, Los Alamitos, CA

Mandatory Source(s) of Supply: Elwyn, Aston, PA

Contracting Activity: Dept of the Army, W6QM MICC-MOFFETT FIELD

Barry S. Lineback,
Director, Business Operations.

[FR Doc. 2017-13832 Filed 6-29-17; 8:45 am]

BILLING CODE 6353-01-P